DEPARTMENT OF TRANSPORTATION

Office of the Secretary

Aviation Proceedings, Agreements Filed the Week Ending April 23, 2004

The following Agreements were filed with the Department of Transportation under the provisions of 49 U.S.C. 412 and 414. Answers may be filed within 21 days after the filing of the application.

Docket Number: OST-2004-17591.

Date Filed: April 19, 2004.

Parties: Members of the International Air Transport Association.

Subject: Mail Vote 368, PTC 0744 dated 20 April 2004,Special Passenger Amending Resolution 010o between Japan and Chinese Taipei r1-r10, Intended effective date: 1 May 2004.

Docket Number: OST-2004-17622.

Date Filed: April 23, 2004.

Parties: Members of the International Air Transport Association.

Subject: Mail Vote 371, PTC2 ME 0132 dated 27 April 2004,Special Passenger Amending Resolution 010s, Within Middle East r1-r3,Intended Effective Date 1 May 2004.

Maria Gulczewski,
Supervisory Dockets Officer, Alternate Federal Register Liaison.

[FR Doc. 04-10470 Filed 5-6-04; 8:45 am]

BILLING CODE 4910-62-P